DEPARTMENT OF THE INTERIOR

Bureau of Land Management

[LLCO923000-L14300000-ET0000; COC-0124534]

Notice of Proposed Withdrawal Extension and Opportunity for Public Meeting; Colorado

AGENCY: Bureau of Land Management, Interior.

ACTION: Notice of Proposed Withdrawal Extension

SUMMARY: The U. S. Army Corps of Engineers filed an application with the Bureau of Land Management (BLM) proposing to extend the Fort Carson-Piñon Canyon Military Lands Withdrawal created by Subtitle A of Public Law 104-201 of September 23, 1996 (110 Stat 2807), for an additional 15 years. A withdrawal extension would continue to protect the following lands and minerals and reserve them for use by the Secretary of the Army Fort Carson Military Reservation which includes 3,133 acres of public lands and 11,415 acres of federally owned minerals; and Piñon Canyon Maneuver Site which includes 2,517 acres of public lands and approximately 130,139 acres of federally owned minerals. The withdrawal extension would protect the surface and mineral estates from all forms of appropriation under the public land laws including mining and mineral laws, geothermal leasing laws and mineral materials disposal laws. The withdrawal created by Public Law 104-201 will expire on September 22, 2011, unless extended. This notice gives the public an opportunity to comment on the proposed action to extend the withdrawal and gives notice of the opportunity for a public meeting.

DATES: Comments must be received by September 6, 2011.

ADDRESSES: Comments should be sent to the Colorado State Office, BLM, 2850 Youngfield Street, Lakewood, Colorado 80215-7093. Persons who use a telecommunications device for the deaf (TDD) may call the Federal Information Relay Service (FIRS) at 1-800-877-8339 to contact the above individual during normal business hours. The FIRS is available 24 hours a day, 7 days a week, to leave a message or question with the above individual. You will receive a reply during normal business hours.

FOR FURTHER INFORMATION CONTACT: John D. Beck, Chief, Branch of Lands and Realty, BLM Colorado State Office, (303) 239-3882; jbeck@blm.gov.

SUPPLEMENTARY INFORMATION: The public domain lands and minerals are in El Paso, Pueblo, Fremont and Las Animas Counties, Colorado, and are described as follows:

Sixth Principal Meridian, Colorado

T. 15 S., R. 66 W.,

Sec. 22, NW¼NE¼.

T. 17 S., R. 66 W.,

Sec. 5, lot 1;

Sec. 18, lot 3.

T. 18 S., R. 66 W.,

Sec. 9, SE¼NE¼, SW¼SW¼, NE¼SE¼, and S½SE¼;

Sec. 14, NE¼NE¼;

Sec. 20, S½N½.

T. 16 S., R. 67 W.,

Sec. 11, E½SE¼;

Sec. 14, E¼NE¼NW¼;

Sec. 26, NW¼NW¼.

T. 17 S. R. 67 W.,

Sec. 35, NW¼.

T. 18 S., R. 67 W.,

Sec. 12, SE¼SW¼;

Sec. 17, NW¼;

Sec. 19, lots 3 and 4, SE¼NW¼, and NE¼SW¼;

Sec. 23, NW¼NW¼;

Sec. 28, SE¼NW¼ and NE¼SW¼;

Sec. 29, SW¼;

Sec. 30, lots 1, 3, and 4, E½; and E½SW¼;

Sec. 31, lots 1 to 4, inclusive, E½W½ and W½E½.

T. 18 S., R. 68 W.,

Sec. 13, W½SW¼ and NE¼SE¼;

Sec. 24, NW¼NE¼, NW¼, W½SW¼, and SE¼SE¼;

Sec. 25, N½N½ and E½SE¼.

Federal Minerals only in Fort Carson Base

T. 17 S., R. 66 W.,

Sec. 31, E½NE¼;

Sec. 32, NW¼;

Sec. 33, W½NW¼;

Sec. 34, SW¼NE¼ and SW¼SW¼.

T. 18 S., R. 66 W.,

Sec. 2, SE¼;

Sec. 6, lot 5;

Sec. 11, NE¼;

Sec. 19, S½SE¼;

Sec. 20, SW¼SW¼;

Sec. 22, S½SE¼;

Sec. 23, E½SE¼;

Sec. 27, N½NE¼, SW¼NW¼, and SW¼;

Sec. 29, NW¼NW¼, SE¼NW¼, SW¼, and W½SE¼;

Sec. 30, lot 4, SE¼NW¼, E½SW¼, and SE¼SE¼;

Sec. 31, lots 1 and 2, NE¼NE¼, S½NE¼, and SE¼NE¼;

Sec. 32, N½N½, SE¼NE¼, and E½SE¼;

Sec. 34, E½W½ and NE¼SE¼;

Sec. 35, NW¼, SE¼, N½SW¼, and SW¼SW¼.

T. 19 S., R. 66 W.,

Sec. 5, lot 3 and SE¼NW¼.

T. 17 S., R. 67 W.,

Sec. 14, W½NW¼ and S½;

Sec. 15, E½ and SW¼;

Sec. 17, N½SE¼.

T. 18 S., R. 67 W.,

Sec. 2, lots 1 and 2, SE¼NE¼, NE¼SE¼, and SW¼;

Sec. 7, lots 3 and 4, E½SW¼, N½SE¼, and SW¼SE¼;

Sec. 8, NW¼SW¼ and SE¼SW¼;

Sec. 10, S½NE¼, SW¼NW¼, W½SW¼, SE¼SW¼, and SE¼;

Sec. 11, E½ and NW¼;

Sec. 12, NE¼NE¼, W½NE¼, NW¼, N½SW¼, SW¼SW¼, and W½SE¼;

Sec. 13, W½W½;

Sec. 14, E½;

Sec. 15, W½ and SE¼;

Sec. 19, S½NE¼ and SE¼;

Sec. 20, W½W½ and NE¼NW¼;

Sec. 22;

Sec. 23, NE¼, E½NW¼, SW¼NW¼, NW¼SW¼, E½SW¼, and N½SE¼;

Sec. 24, W½ and W½E½;

Sec. 25, W½NE¼, E½NW¼, and SE¼NW¼SE¼;

Sec. 26, E½NW¼, SW¼NW¼, and W½SW¼;

Sec. 25, W½NE¼, E½NW¼, and SE¼NW¼SE¼;

Sec. 26, E½NW¼, SW¼NW¼, and W½SW¼;

Sec. 27;

Sec. 29, NW¼NE¼ and NW¼;

Sec. 31, E½E½;

Sec. 32, W½W½;

Sec. 34, NE¼;

Sec. 35, SW¼ and SW¼SE¼.

T. 18 S. R. 68 W.,

Sec. 11, SE¼SE¼SE¼ lying Easterly of the Easterly right-of-way line of State Highway 115;

Sec. 12, E½SE¼, NW¼SE¼, NE¼SW¼ and W½SW¼ lying Easterly of the Easterly right-of-way line of State Highway 115;

Sec. 13, W½NW¼;

Sec. 14, NE¼NE¼ lying Easterly of the Easterly right-of-way line of State Highway 115.

Surface and Minerals in the Piñon Canyon Maneuver Area

T. 30 S., R. 59 W.,

Sec. 6, lot 4;

Sec. 31, lot 2.

T. 30 S., R. 60 W.,

Sec. 8, N½;

Sec. 10, N½;

Sec. 12, S½;

Sec. 13, N½;

Sec. 21, N½N½;

Sec. 22, NW¼;

Sec. 25, NE¼NE¼, S½NE¼; SE¼SW¼, and SE¼;

Sec. 26, N½NW¼;

Sec. 29, N½NE¼;

Sec. 33, S½NE¼, S½SW¼, and SE¼;

Sec. 35, SE¼SE¼.

Federal Minerals Only in Piñon Canyon Maneuver Area

References to the rim of Purgatoire River Canyon mean the boundary of the Piñon Canyon Site as defined by metes and bounds along the northwesterly or left rim of the canyon, facing downstream:

Sixth Principal Meridian, Colorado

T. 28 S, R. 55 W.,

Sec. 4, those portions of lots 2, 3, and 4, and SW¼NW¼ northwesterly of the rim;

Sec. 5, lots 1 to 4, inclusive, S½N½, NE¼SW¼, and NW¼SE¼;

Sec. 6, lots 1 to 7, inclusive, SE¼NE¼, SW¼NW¼, and NW¼SW¼;

Sec. 7, lots 1 and 2;

Sec. 18, lot 4, those portions westerly of the rim; (oil & gas).

T. 28 S., R. 56 W.,

Sec. 1, lot 1, SE¼NE¼, NW¼SW¼, E½SW¼, and SE¼;

Sec. 2, lot 1;

Sec. 3, lots 1 to 4, inclusive, S½N½ and S½;

Sec. 4, lots 1 to 4, inclusive, S½N½ and S½;

Sec. 5, lots 1 to 4, inclusive, S½SW¼ and SW¼SE¼;

Sec. 6, lots 1 to 5, inclusive, S½NE¼, SE¼NW¼, and SE¼;

Sec. 7, NE¼, NE¼NW¼, and NE¼SE¼;

Sec. 8, W½NE¼, W½, and NW¼SE¼;

Sec. 9;

Sec. 10, N½;

Sec. 11, W½NE¼, NW¼, and N½SW¼;

Sec. 12, NE¼ and E½NW¼;

Sec. 13, NE¼NW¼;

Sec. 14, those portions of the SE¼SE¼ northwesterly of the rim, and S½N½, SW¼, and W½SE¼;

Sec. 21, NE¼NE¼, W½, and W½SE¼;

Sec. 22, E½NE¼ and SE¼NW¼;

Sec. 22, SW¼NE¼ and N½SE¼; (oil & gas)

Sec. 23, those portions of the NE¼ and SW¼SE¼ westerly and northwesterly of the rim, and W½;

Sec. 26, NW¼NW¼;

Sec. 27, E½NE¼, SW¼NE¼, E½SW¼, and NW¼SE¼;

Sec. 28, W½W½;

Sec. 29, N½, N½SW¼, and SE¼;

Sec. 31, lot 4;

Sec. 32, E½ and S½SW¼;

Sec. 33, S½NW¼.

T. 29 S., R. 56 W.,

Sec. 4, those portions of lots 3, 4, and S½NW¼ northerly of the rim;

Sec. 5, that portion of lot 3 westerly of the rim, and lot 4;

Sec. 5, SE¼NW¼ and that portion of the S½SW¼ westerly of the rim; (oil & gas)

Sec. 6, lots 1 to 7, inclusive, SE¼NW¼, E½SW¼, and S½SE¼;

Sec. 6, S½NE¼ and N½SE¼; (oil and gas)

Sec. 7, those portions of the S½NE¼, NW¼SE¼, and SE¼SW¼ westerly of the rim, and lots 1 to 4, inclusive, NW¼NE¼, E½NW¼, and NE¼NE¼SW¼;

Sec. 7, NE¼NE¼; (oil and gas)

Sec. 8, that portion of the NW¼NW¼ lying westerly of the rim; (oil & gas)

Sec. 19, that portion of lot 1 westerly of the rim.

T. 28 S, R. 57 W.,

Sec. 1, lots 1 to 4, inclusive;

Sec. 2, lots 1 to 4, inclusive, S½NE¼, N½SW¼, and SE¼;

Sec. 3, lots 2, 3, and 4, SW¼NE¼, S½NW¼, SW¼, and N½SE¼;

Sec. 4, lots 1 to 4, inclusive, S½N½, SE¼SW¼, and SE¼;

Sec. 5, lots 1 and 2, S½NE¼, and S½;

Sec. 6, lots 1 to 7, inclusive, S½NE¼, SE¼NW¼, NE¼SW¼, and N½SE¼;

Sec. 7, lots 1 to 4, inclusive, SE¼NE¼, E½SW¼, and SE¼;

Sec. 8, N½ and W½SW¼;

Sec. 9, NE¼NW¼ and NE¼SE¼;

Sec. 10, NW¼NE¼, NE¼NW¼, and SW¼SW¼;

Sec. 11, NE¼ and N½SE¼;

Sec. 12, SW¼NW¼, SW¼, W½SE¼, and SE¼SE¼;

Sec. 13, N½;

Sec. 14;

Sec. 15, E½, S½NW¼, and SW¼;

Sec. 18, lots 1, 2, and 3;

Sec. 22, NE¼, SW¼SW¼, and E½SE¼;

Sec. 23;

Sec. 24, NW¼NE¼, N½NW¼, and SW¼NW¼;

Sec. 25, W½;

Sec. 26, E½;

Sec. 27, N½, W½SW¼, and E½SE¼;

Sec. 28, NE¼NE¼, W½E½, and W½;

Sec. 29;

Sec. 30, lots 3 and 4, E½, and E½W½;

Sec. 31, lots 1 and 2, E½, and E½W½;

Sec. 32, N½, NE¼SW¼, and N½SE¼;

Sec. 33, N½N½, SW¼NW¼, W½SW¼, and SE¼SW¼;

Sec. 34, NE¼, N½NW¼, SW¼NW¼, and N½SE¼.

T. 29 S., R. 57 W.,

Sec. 2, SW¼SE¼;

Sec. 3, lots 3 and 4, S½NW¼, S½SW¼, and NE¼SW¼;

Sec. 6, lot 1, SE¼NE¼, and NW¼SE¼;

Sec. 7, lot 4, N½NE¼, SW¼NW¼, SE¼SW¼, and S½SE¼;

Sec. 8, S½NE¼ and NE¼SE¼;

Sec. 9, E½NE¼, SW¼NE¼, S½NW¼, N½SW¼, and SE¼;

Sec. 10, W½NW¼ and SW¼SW¼;

Sec. 11, NE¼, N½NW¼, and N½SE¼;

Sec. 12, N½NW¼, SW¼NW¼, SW¼, and SW¼SE¼;

Sec. 13, N½ and N½SW¼;

Sec. 14, E½, N½NW¼, and SW¼;

Sec. 15, SW¼NE¼, SE¼NW¼, NE¼SW¼, and SE¼;

Sec. 17, E½NE¼ and SW¼NW¼;

Sec. 18, lots 1 to 4, inclusive, and SE¼;

Sec. 19, lots 1, 2, and 3, E½, SE¼NW¼, and NE¼SW¼;

Sec. 20, S½;

Sec. 21;

Sec. 22, SW¼NE¼, W½NW¼, SE¼NW¼, N½SW¼, and SE¼;

Sec. 23, NW¼NE¼, N½NW¼, and S½;

Sec. 24, those portions of the S½S½ northerly and northwesterly of the rim, N½NE¼, S½N½, and N½S½;

Sec. 25, that portion of NW¼NE¼ and N½NW¼ northwesterly of the rim;

Sec. 26, those portions of SE¼NE¼, S½SW¼, and SE¼, westerly and northwesterly of the rim, and N½NE¼, SW¼NE¼, NW¼, and N½SW¼;

Sec. 27, E½, NE¼NW¼, S½NW¼, and SW¼;

Sec. 28, NW¼NE/¼, S½NE¼, W½, and SE¼;

Sec. 29;

Sec. 30, lots 3 and 4, N½NE¼, E½SW¼, NE¼SE¼, and S½SE¼;

Sec. 31, lots 1 to 4, inclusive, E½ and E½W½;

Secs. 32 and 33;

Sec. 34, N½, SW¼, W½SE¼, and SE¼SE¼;

Sec. 35, those portions of W½NW¼ and SW¼SW¼ westerly and northwesterly of the rim.

T. 30 S., R. 57 W.,

Sec. 3, lots 3 and 4, SW¼NW¼, NW¼SW¼, and that portion of the SW¼SW¼ northwesterly of the rim;

Sec. 4, lots 1 to 4, inclusive, S½N½, and S½;

Sec. 5, lots 1 to 4, inclusive, S½N½, and S½;

Sec. 6, lots 1 to 7, inclusive, S½NE¼, SE¼NW¼, E½SW¼, and SE¼;

Sec. 7, lots 1 to 4, inclusive, E½, and E½W½;

Sec. 8, N½NE¼, W½SE¼, and SE¼SE¼;

Sec. 9, those portions of S½SW¼ northerly of the rim, and NE¼SW¼;

Sec. 17, those portions of E½E½, N½SW¼, and NW¼SE¼ westerly and northerly of the rim, and W½NE¼ and NW¼;

Sec. 18, lot 1, N½NE¼, and NE¼NW¼;

Sec. 19, lots 2 and 3, those portions of the S½NE¼, SE¼NW¼, NE¼SW¼ westerly and northwesterly of the rim;

Sec. 30, lot 1, those portions of lot 2 and NE¼NW¼ westerly of the rim.

T. 28 S., R. 58 W.,

Sec. 11, NE¼, SW¼, and W½SE¼;

Sec. 12, N½ and E½SE¼;

Sec. 13, N½, SW¼, and N½SE¼;

Sec. 14, N½, NE¼SW¼, N½SE¼, and SE¼SE¼;

Sec. 19, lots 1 to 4, inclusive, N½NE¼, E½W½, and SE¼;

Sec. 20;

Sec. 21, S½;

Sec. 22, N½, SW¼, W½SE¼, and SE¼SE¼;

Sec. 23, SE¼SE¼;

Sec. 24, S½SW¼ and SW¼SE¼;

Sec. 25, NW¼NE¼, S½NE¼, W½, and SE¼;

Sec. 26, NE¼NE¼, S½NE¼, SE¼NW¼, NE¼SW¼, S½SW¼, and SE¼;

Sec. 27 and 28;

Sec. 29, N½;

Sec. 30, lots 1, 2, and 4, E½, and E½W½;

Sec. 31, lots 1 to 4, inclusive, E½, and E½W½;

Sec. 32, E½;

Sec. 33, W½;

Sec. 34;

Sec. 35, N½N½, SE¼NE¼, SW¼NW¼, SW¼SW¼, and SE¼SE¼.

T. 29 S., R. 58 W.,

Sec. 1, lots 2, 3, and 4, SE¼NE¼, S½NW¼, and SW¼SE¼;

Sec. 2, lots 1 to 4, inclusive, and S½N½;

Sec. 3, lots 1 to 4, inclusive, and S½N½;

Sec. 4, lots 1 to 4, inclusive, S½N½ and S½;

Sec. 5, lots 1 to 4 inclusive, S½N½, and S½;

Sec. 6, lots 1 to 6, inclusive, S½NE¼, SE¼NW¼, E½SW¼, and SE¼;

Sec. 7, NW¼SE¼ and E½E½;

Sec. 8;

Sec. 9, N½, SW¼, N½SE¼, and SE¼SE¼;

Sec. 10, W½NW¼, SW¼, and S½SE¼;

Sec. 11, N½ and NE¼SE¼;

Sec. 12, NW¼NE¼ and NW¼NW¼;

Sec. 13, NE¼, NE¼SW¼, SW¼SW¼, N½SE¼, and SE¼SE¼;

Sec. 14, E½, E½W½, NW¼NW¼, and SW¼SW¼;

Sec. 15, N½NE¼, NW¼, and S½S½;

Sec. 17, W½NE¼, NW¼, and S½S½;

Sec. 18, lots 2, 3, and 4, NE¼NE¼, W½E½, E½W½, and SE¼SE¼;

Sec. 19, lots 1 to 4, inclusive, N½NE¼, E½NW¼, SE¼SW¼, and S½SE¼;

Sec. 20, E½, N½NW¼, SE¼NW¼, and S½SW¼;

Sec. 21, N½NE¼, SW¼NE¼, NW¼, and NW¼SW¼;

Sec. 22, N½ and N½S½;

Sec. 23, N½NE¼, NW¼, and SE¼SE¼;

Sec. 24, E½E½; and W½NW¼;

Sec. 25, S½NE¼, N½NW¼, S½SW¼, and SE¼;

Sec. 26, N½NE¼; NW¼NW¼, and N½S½;

Sec. 27;

Sec. 28, S½NW¼; and S½;

Sec. 29;

Sec. 30, lots 1 to 4, inclusive, E½, and E½W½;

Sec. 31, lots 1 to 4, inclusive, E½, and E½W½;

Sec. 32, S½;

Sec. 33;

Sec. 34, E½;

Sec. 35, SW¼.

T. 30 S., R. 58 W.,

Sec. 2, lots 3 and 4, S½NW¼, and S½;

Sec. 3, lots 1 and 4, SE¼NE¼, SW¼NW¼, W½SW¼, and E½SE¼;

Sec. 4, lots 1 to 4, inclusive, S½N½, and S½;

Sec. 5, lots 3 and 4, S½NW¼, and SW¼;

Sec. 6, lots 3 to 7, inclusive, SE¼NW¼, and E½SW¼;

Sec. 7, lots 1, 2, and 3, E½, and E½W½;

Sec. 8, W½, W½SE¼, and SE¼SE¼;

Sec. 9, E½ and NW¼;

Sec. 10, W½;

secs. 11, 12, 13, and 14;

Sec. 15, NW¼;

Sec. 17;

Sec. 18, lot 4, E½NE¼, SE¼SW¼, and S½SE¼;

Sec. 19, lots 1 to 4, inclusive, E½, and E½W½;

Sec. 20;

Sec. 21, NW¼NE¼, SE¼NE¼, N½NW¼; SW¼NW¼, and NW¼SW¼;

Sec. 21, SW¼NE¼; (oil and gas)

Sec. 22, W½SW¼ and NW¼SE¼;

Sec. 23, N½NE¼, NW¼SW¼, and SE¼SW¼;

Sec. 24, NE¼ and N½SE¼;

Sec. 25, those portions of SE¼NE¼ and W½SE¼ westerly of the rim, and NE¼NE¼, SW¼NE¼, W½NW¼, SE¼NW¼, and SW¼;

Sec. 26, NE¼NE¼, NW¼NW¼, S½N½, and S½;

Sec. 27, W½E½ and W½;

Sec. 28, NE¼NE¼, S½N½, and S½;

Sec. 29, NW¼NE¼, NW¼, W½SW¼, and SE¼SW¼;

Sec. 30, lots 1 and 2, NE¼, and E½NW¼;

Sec. 32, N½;

Sec. 33 E½;

Sec. 34, W½NE¼, NW¼, N½SW¼, and NW¼SE¼;

Sec. 35, those portions of N½, SW¼, and W½SE¼ northerly and westerly of the rim.

T. 31 S., R. 58 W.,

Sec. 2, those portions of the SW¼NE¼, and W½SE¼ westerly of the rim, and SE¼NW¼, and SW¼;

Sec. 3, lot 4, SW¼NE¼, SW¼NW¼, NW¼SW¼, and E½SW¼;

Sec. 4, E½SW¼ and SE¼;

Sec. 5, lots 1 and 2, S½NE¼, SE¼SW¼, and SE¼;

Sec. 6, lots 1 to 6, inclusive, S½NE¼, and SE¼;

Sec. 7, NE¼, N½SE¼, and SW¼SE¼;

Sec. 7, lots 1, 2, and 3; (oil & gas)

Sec. 8, N½, NE¼SW¼, N½SE¼, and SE¼SE¼;

Sec. 9, N½NE¼, SE¼NE¼, and NE¼NW¼;

Sec. 9, SE¼NW¼, and SW¼SE¼ northwesterly of the rim; (oil & gas)

Sec. 10, those portions of S½NE¼ and N½SE¼ northerly and westerly of the rim, and NE¼NE¼;

Sec. 11, those portions of NW¼NE¼, NE¼NW¼ northerly of the rim, and NW¼NW¼.

T. 28 S., R. 59 W.,

Sec. 24, E½, E½NW¼, and SW¼;

Sec. 25.

T. 29 S., R. 59 W.,

Sec. 1, lots 1 to 4, inclusive, S½N½, and S½;

Sec. 2, lots 1 to 4, inclusive, S½N½, and S½;

Sec. 3, lots 1 to 4, inclusive, S½N½, and S½;

Sec. 4, lots 1 to 4, inclusive, S½N½, and S½;

Sec. 5, lots 1, 2 and 3, S½NE¼, S½NW¼, SW¼, and NW¼SE¼;

Sec. 7, lots 3, 4, E½SW¼, and SE¼;

Sec. 9;

Sec. 10, NE¼, N½NW¼, and N½SE¼;

Sec. 11;

Sec. 12, W½NE¼, NW¼, W½SW¼, and NW¼SE¼;

Sec. 13, S½;

Sec. 14, E½;

Sec. 15, W½;

Sec. 17, NW¼NE¼, S½NE¼, W½SW¼, SE¼SW¼, and SE¼;

Sec. 18, lots 1 to 4, inclusive, E½W½ and SE¼;

Sec. 19, lots 1 to 4, inclusive, E½, and E½W½;

Sec. 20, SW¼NE¼, NW¼, N½SW¼, SE¼SW¼, and SE¼;

Sec. 21, NE¼NE¼, S½NE¼, and S½;

secs. 22, 23, and 24;

Sec. 25, N½N½ and S½;

secs. 26 and 27;

Sec. 28, N½N½ and S½ SW¼;

Sec. 29, NE¼NE¼, SW¼, W½SE¼, and SE¼SE¼;

Sec. 30, lots 1 and 2, W½NE¼, SE¼NE¼, E½NW¼, N½SE¼, and SE¼SE¼;

Sec. 30, NE¼SW¼ and SW¼SE¼; (oil & gas)

Sec. 31, E½NE¼;

Sec. 31, lots 2 and 3, W½NE¼, and SE¼; (oil & gas)

Sec. 32, N½;

Sec. 32, N½S½ and SW¼SW¼; (oil & gas)

Sec. 33, SE¼NE¼, N½NW¼, and SW¼NW¼;

Sec. 34, S½;

Sec. 35, NE¼ and NE¼SE¼.

T. 30 S. R. 59 W.,

Sec. 1, lots 1, 2, S½NE¼ and SE¼;

Sec. 2, W½SW¼ and SE¼SW¼;

Sec. 3, lots 1 to 4, inclusive, S½N½, SW¼, N½SE¼, and SE¼SE¼;

Sec. 4, lots 1 to 4, inclusive, S½N½ and S½;

Sec. 5, S½N½ and S½;

Sec. 6, lots 5, 6, and 7, S½NE¼, SE¼NW¼, E½SW¼, and SE¼;

Sec. 7, lots 1 to 4, inclusive, E½ and E½W½;

Sec. 8, W½;

Sec. 9, W½;

Sec. 10, NE¼;

Sec. 11;

Sec. 12, SE¼NE¼, SW¼NW¼, N½SW¼, and SW¼SW¼;

Sec. 13, NW¼SW¼ and S½S½;

Sec. 14;

Sec. 15, NE¼NW¼, W½SW¼, SE¼SW¼, and SE¼;

Sec. 18, lots 1 to 4, inclusive, E½ and E½W½;

Sec. 19, lots 1 and 2, E½ and E½NW¼;

Sec. 20, E½, S½NW¼, and SW¼;

Secs. 21, 23, 24, and 25;

Sec. 26, E½E½ and W½W½;

Secs. 27 and 28;

Sec. 29, N½N½ and SW¼NE¼;

Sec. 30, lots 3 and 4, E½SW¼, and W½SE¼;

Sec. 31, lots 1 and 3, NE¼NW¼, S½NE¼, SE¼NW¼, NE¼SW¼, and N½SE¼;

Sec. 32, SW¼NW¼, SW¼, and W½SE¼;

Sec. 34, S½;

Sec. 35, S½.

T. 31 S. R. 59 W.,

Sec. 1, lots 3 and 4, S½NW¼, and SW¼;

Sec. 2, lots 1 to 4, inclusive, S½N½, and S½;

Sec. 3, lots 1 to 4, inclusive, S½N½, N½SW¼, SE¼SW¼, and SE¼;

Sec. 4, NE¼SW¼, S½S½, and NE¼SE¼;

Sec. 5, lots 2 and 3, SW¼, W½SE¼, and SE¼SE¼;

Sec. 6, lots 1 to 7, inclusive, S½NE¼, SE¼NW¼, and E½SW¼;

Sec. 7, those portions of lot 2, SW¼NE¼, SE¼NW¼ and W½SE¼ lying northerly of a line 10 feet northerly of and parallel to the centerline of Las Animas County Road No. 54, and lot 1, N½NE¼, NE¼NW¼, and SE¼SE¼;

Sec. 8, those portions of S½SW¼, lying northerly of a line 10 feet northerly of and parallel to the centerline of Las Animas County Road No. 54, and the E½NE¼, SW¼NE¼, N½S½ and S½SE¼;

Sec. 9;

Sec. 10, N½, SW¼, and S½SE¼;

Sec. 11, N½ and S½SW¼;

Sec. 12, E½ and N½NW¼;

Sec. 14, N½NW¼ and SW¼NW¼;

Sec. 15, N½N½ and SW¼NE¼;

Sec. 17, those portions of the NW¼NE¼ lying northeasterly of a line 10 feet northerly of and parallel to the centerline of Las Animas County Road No.54.

T. 29 S., R. 60 W.,

Sec. 9, those portions of the SE¼NE¼ and NE¼SE¼ lying southeasterly of the southeasterly right-of-way line for U.S. Highway 350, and the SE¼SE¼;

Sec. 10, S½NE¼, SW¼NW¼, NW¼SW¼, and S½S½;

Sec. 11, NE¼NE¼, S½NE¼, SE¼NW¼, E½SW¼, and SE¼;

Secs. 12 to 15, inclusive;

Sec. 17, those portions of the S½SW¼ lying southeasterly of the southeasterly right-of-way line of U. S. Highway 350;

Sec. 21, E½;

Secs. 22, 23, and 24;

Sec. 25, N½, SW¼, and NW¼SE¼;

Sec. 26;

Sec. 33, SE¼;

Sec. 34;

Sec. 35, N½NE¼, SE¼NE¼, NW¼NW¼, and SW¼.

T. 30 S., R. 60 W.,

Sec. 1, S½;

Sec. 2, lots 1 to 4, inclusive, S½N½ and S½;

Sec. 3, lots 1 to 4, inclusive, S½N½ and S½;

Sec. 10, NW¼SW¼, S½S½, and NE¼SE¼;

Sec. 11;

Sec. 12, N½;

Sec. 13, S½;

Secs. 14 and 15;

Sec. 19, lot 1, N½NE¼, and NE¼NW¼;

Sec. 20, W½NE¼ and N½NW¼;

Sec. 21, S½NW¼ and SW¼;

Sec. 22, E½ and E½SW¼;

Sec. 23, W½NW¼, SW¼, and W½SE¼;

Sec. 24, N½ and N½SE¼;

Sec. 25, S½NW¼ and N½SW¼;

Sec. 26, NE¼, S½NW¼, and NE¼SE¼;

Sec. 27, N½NE¼, SE¼NE¼, NE¼NW¼, S½SW¼, and SW¼SE¼;

Sec. 28, N½NW¼ and S½S½;

Sec. 33, N½N½ and SW¼NW¼;

Sec. 34, N½NE¼, NW¼NW¼, S½S½, and NE¼SE¼;

Sec. 35, S½NE¼, W½, N½SE¼; and SW¼SE¼.

T. 31 S., R. 60 W.,

Sec. 1, those portions of the N½SW¼ and W½SE¼ lying northerly and northeasterly of a line 10 feet northerly of and parallel to the centerline of Las Animas County Road No.54, and E½SE¼;

Sec. 1, lots 1 to 4, inclusive, and S½S½; (oil & gas)

Sec. 2, those portions of the S½NW¼, NE¼SW¼, and NE¼SE¼ lying northerly of a line 10 feet northerly of and parallel to the centerline of Las Animas County Road No. 54;

Sec. 2, and lots 1 to 4, inclusive, S½NE¼; and those portions of the NW¼SE¼ lying northerly of a line 10 feet northerly of and parallel to the centerline of Las Animas County Road No. 54; (oil and gas)

Sec. 3, lot 2, and those portions of the S½NE¼ lying northeasterly of a line 10 feet northerly of and parallel to the centerline of Las Animas County Road No. 54, and lot 1; (oil and gas)

Sec. 12, Those portions of the NE¼NE¼ lying northeasterly of a line 10 feet northerly of and parallel to the centerline of Las Animas County Road No.54.

T. 29 S., R. 61 W.,

Sec. 25, metes and bounds parcel contiguous to U. S. Highway No 350 in the SE¼NE¼;

Sec. 25, N½N½ and E½SE¼.

The areas described, including both surface and mineral estates, aggregate approximately 147,204 acres in El Paso, Pueblo, Fremont and Las Animas Counties.

The proposed withdrawal extension would continue to protect the Fort Carson Military Reservation at Colorado Springs, and the associated Piñon Canyon Maneuver Area for military maneuvering, training and weapons firing and other defense-related purposes. The use of a right-of-way or a cooperative agreement would not provide adequate protection for the Federal investment in the areas and is not authorized for those purposes. There are no suitable alternative sites as the described lands and mineral interests contain the military values in need of protection. The Army would not need to acquire water rights to fulfill the purpose of the requested withdrawal extension.

The Army held public meetings in conjunction with the proposed withdrawal extension: November 1, 2006, at Mesa Right High School, 6070 Mesa Ridge Parkway, Colorado Springs, Colorado 80911; November 2, 2006, at Trinidad State Jr. College, Sullivan Student Center, 600 Prospect St., Trinidad, Colorado; and November 3, 2006, at Otero Jr. College, Student Center Banquet Room, 2001 San Juan Ave., La Junta, Colorado.

Notice is hereby given that one or more public meetings will be held in connection with the proposed withdrawal extension. A notice of the time and place of any public meetings will be published in the Federal Register and at least one local newspaper at least 30 days before the scheduled date of the meeting. Further documentation, map information, as well as public comments including names and street addresses of respondents, will be available for

public review at the BLM Colorado State Office at the address above during regular business hours, 9 a.m. to 4 p.m., Monday through Friday, except Federal holidays.

Before including your address, phone number, e-mail address, or other personal identifying information in your comment, you should be aware that your entire comment—including your personal identifying information—may be made publicly available at any time. While you can ask us in your comment to withhold your personal identifying information from public review, we cannot guarantee that we will be able to do so.

This application will be processed in accordance with the regulations set forth at 43 CFR part 2300.

Authority: 43 CFR 2310.3-1(b).

Helen M. Hankins,
State Director.

[FR Doc. 2011-14151 Filed 6-7-11; 8:45 am]

BILLING CODE 3720-58-P